ENVIRONMENTAL PROTECTION AGENCY

[EPA-HQ-OA-2015-0553; FRL-10000-83-OA]

Information Collection Request Submitted to OMB for Review and Approval; Comment Request; Updated CEQ-EPA Presidential Innovation Award for Environmental Educators and the President's Environmental Youth Awards Application (Revision)

AGENCY: Environmental Protection Agency (EPA).

ACTION: Notice.

SUMMARY: The Environmental Protection Agency is planning to submit an information collection request (ICR), “Updated CEQ-EPA Presidential Innovation Award for Environmental Educators and the President's Environmental Youth Awards Application (Revision)” (EPA ICR No. 2524.03, OMB Control No. 2090-0031) to the Office of Management and Budget (OMB) for review and approval in accordance with the Paperwork Reduction Act. This is a proposed revision of the ICR, which is currently approved through April 30, 2022. An Agency may not conduct, or sponsor and a person is not required to respond to a collection of information unless it displays a currently valid OMB control number.

DATES: Comments must be submitted on or before December 6, 2019.

ADDRESSES: Submit your comments, referencing Docket ID Number EPA-HQ-OA-2015-0553, online using www.regulations.gov (our preferred method), by email to oei.docket@epa.gov, or by mail to: EPA Docket Center, Environmental Protection Agency, Mail Code 28221T, 1200 Pennsylvania Ave. NW, Washington, DC 20460.

EPA's policy is that all comments received will be included in the public docket without change including any personal information provided, unless the comment includes profanity, threats, information claimed to be Confidential Business Information (CBI) or other information whose disclosure is restricted by statute.

FOR FURTHER INFORMATION CONTACT: Javier Araujo, Office of the Administrator, Office of Environmental Education, MC-1704A, Environmental Protection Agency, 1200 Pennsylvania Ave. NW, Washington, DC 20460; telephone number: 202-564-2642; fax number: 202-564-2753; email address: araujo.javier@epa.gov.

SUPPLEMENTARY INFORMATION: Supporting documents which explain in detail the information that the EPA will be collecting are available in the public docket for this ICR. The docket can be viewed online at www.regulations.gov or in person at the EPA Docket Center, WJC West, Room 3334, 1301 Constitution Ave., NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The purpose of this information collection request is to collect information from applicants to select recipients for the Presidential Innovation Award for Environmental Educators (PIAEE) program and the President's Environmental Youth Awards (PEYA) program. The U.S. Environmental Protection Agency (EPA or the Agency), in conjunction with the White House Council on Environmental Quality (CEQ), established the PIAEE program to meet the requirements of Section 8(e) of the National Environmental Education Act (20 U.S.C. 5507(e)). The Agency established the PEYA program to meet the requirements of Section 8(d) of the National Environmental Education Act (20 U.S.C. 5507(d)).

Form Numbers: None.

Respondents/affected entities: K-12 teachers who teach on a full-time basis in a public school that is operated by a local education agency, including schools funded by the Bureau of Indian Affairs. For this program, a local education agency is one as defined by section 198 of the Elementary and Secondary Education Act of 1965 (now codified at 20 U.S.C. 7801(26)).

Respondent's obligation to respond: Required to obtain information from the applicants for PIAEE and PEYA program and assess certain aspects of programs as established under Section 8(e) of the National Environmental Education Act (20 U.S.C. 5507(e)) and Section 8(d) of the National Environmental Education Act (20 U.S.C. 5507(d)) respectively.

Estimated number of respondents: 75 (total) for the PIAEE program and 200 (total) for the PEYAEE program.

Frequency of response: Annually.

Total estimated burden: 1,870 hours (per year). Burden is defined at 5 CFR 1320.03(b).

Total estimated cost: For the PIAEE program, $32,960 (per year) for 75 applicants. For the PEYA program, $49,220 (per year) for 200 applicants. There are no capital or operation & maintenance costs.

Changes in the Estimates: There has been a change in the number of respondents due to the addition of activities related to PEYA application. The individual cost per respondent has risen, due to increases in labor rate estimates.

Dated: August 28, 2019.
Elizabeth (Tate) Bennett,
Associate Administrator, Office of Public Engagement and Environmental Education.

[FR Doc. 2019-21833 Filed 10-4-19; 8:45 am]

BILLING CODE 6560-50-P